GENERAL SERVICES ADMINISTRATION

Federal Supply Service; Standard Tender of Service

AGENCY: Federal Supply Service, GSA.

ACTION: Notice of issuance of the GSA Standard Tender of Service.

The General Services Administration (GSA) is reissuing the GSA Standard Tender of Service (STOS) that establishes a uniform basis for buying freight transportation. The Standard Tender of Service (STOS) was published in the Federal Register for comment on August 31, 2001 (66 FR 46124). Comments were due by October 30, 2001, but none were received. The STOS will be reissued as it was published in 66 FR 46124 and can be accessed at http://www.kc.gsa.gov/fsstt/FRT/stos.htm. The reissued STOS will effectively cancel the current STOS and all its supplements.

EFFECTIVE DATE: December 4, 2001.

FOR FURTHER INFORMATION CONTACT: Mr. Richard Hoffman, Transportation Programs Branch, by phone at 703-305-7969 or by e-mail at richard.hoffman@gsa.gov.

Dated: November 27, 2001.
Tauna T. Delmonico,
Director, Travel and Transportation Management Division.

[FR Doc. 01-29918 Filed 12-3-01; 8:45 am]

BILLING CODE 6820-61-M